DEPARTMENT OF TRANSPORTATION

Federal Aviation Administration

Approval of Noise Compatibility Program for Cleveland-Hopkins International Airport, Cleveland, Ohio

AGENCY: Federal Aviation Administration (FAA), DOT.

ACTION: Notice.

SUMMARY: The FAA announces its findings on the noise compatibility program submitted by the City of Cleveland, Ohio under the provisions of 49 U.S.C. 47501 et seq. (formerly the Aviation Safety and Noise Abatement Act, hereinafter referred to as “the Act”) and 14 CFR part 150 (hereinafter referred to as “Part 150”). On June 6, 2012, the FAA determined that the noise exposure maps submitted by the City of Cleveland, Ohio under Part 150 were in compliance with applicable requirements. On November 29, 2012 the FAA approved the Cleveland-Hopkins International Airport noise compatibility program. Twelve recommendations were granted outright approval; six were approved in part; one was withdrawn; one was disapproved; and one required no action.

DATES: This notice is effective March 19, 2013, and is applicable beginning December 12, 2012.

FOR FURTHER INFORMATION CONTACT: Katherine S. Delaney, 11677 S. Wayne Road, Suite 107, Romulus, Michigan; Email: Katherine.S.Delaney@faa.gov; Phone: 734-229-2900. Documents reflecting this FAA action may be reviewed at this same location.

SUPPLEMENTARY INFORMATION: This notice announces that the FAA has made a determination on each measure in the Noise Compatibility Program for Cleveland Hopkins International Airport, effective November 29, 2012.

Under section 47504 of the Act, an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel. Each airport noise compatibility program developed in accordance with Part 150 is a local program, not a Federal program. The FAA does not substitute its judgment for that of the airport proprietor with respect to which measures should be recommended for action. The FAA's approval or disapproval of Part 150 program recommendations is measured according to the standards expressed in Part 150 and the Act and is limited to the following determinations:

a. The Noise Compatibility Program was developed in accordance with the provisions and procedures of Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in Part 150, section 150.5. Approval is not a determination concerning the acceptability of land uses under Federal, state, or local law. Approval does not by itself constitute an FAA implementing action. A request for Federal action or approval to implement specific noise compatibility measures may be required. Prior to an FAA decision on a request to implement the action, an environmental review of the proposed action may be required. Approval does not constitute a commitment by the FAA to financially assist in the implementation of the program nor a determination that all measures covered by the program are eligible for grant-in-aid funding from the FAA under applicable law contained in Title 49 U.S.C. Where federal funding is sought, requests for project grants must be submitted to the FAA Airports District Office in Romulus, Michigan.

The Cleveland-Hopkins International Airport study contains a proposed noise compatibility program comprised of actions designed for phased implementation by airport management and adjacent jurisdictions from 2011 to the year 2017. It was requested that the FAA evaluate and approve this material as a Noise Compatibility Program as described in section 47504 of the Act. The FAA began its review of the program on June 6, 2012 and was required by a provision of the Act to approve or disapprove the program within 180 days (other than the use of new or modified flight procedures for noise control). Failure to approve or disapprove such program within the 180-day period shall be deemed to be an approval of such program. A total of twenty-one proposed actions for noise abatement, land use planning and program management on and off the airport were evaluated. The FAA completed its review and determined that the procedural and substantive requirements of the Act and Part 150 have been satisfied. The overall program was approved by the FAA, effective November 29, 2012.

Outright approval was granted for twelve specific program measures. The measures that were granted outright approved were: Continue voluntary restriction of run-ups and engine maintenance testing as specified in the 1987 NCP and updated in the 2000 NCP; Continue to encourage the use of noise abatement departure profiles (NADPs); Adopt land use development controls and construction standards in the local communities surrounding the Airport to include those within the 60 dB DNL contour; Adopt real estate disclosure policies regarding airport noise exposure in the local communities surrounding the Airport, to include those within the 60 dB DNL contour; Complete sound insulation of residences within the higher levels of the Noise Exposure, 65+ DNL; Sound insulation program within 60 dB DNL contours; Expand capabilities of the Airport's Noise and Operations Monitoring System (NOMS) by acquiring and installing six new permanent noise monitors and more fully utilizing the analysis capabilities of the current software; Investigate the feasibility of a new state-of-the-art NOMS system to replace the current system in its entirety; Expand the content of the Airport's Quarterly Noise Reports; Update the tower's Standard Operating Procedures Manual to reflect all FAA-approved NCP measures; Retain the current Part 150 working group and continue to report on information regarding noise issues; and Continue periodic updates of the NCP and reviews of the NEMs.

The FAA approved the following measures in part: Develop and implement new RNAV flight procedures for departures from Runways 6L and 6R; Develop and implement new RNAV flight procedures for departures from Runways 24L and 24R; Modify existing standard instrument departures (SIDs) to reduce early turns after take-off; Designate Runway 6R as the preferred late night (11:00 p.m. to 6:00 a.m.) departure runway; Wind and weather permitting, instruct arriving aircraft at night (10:00 p.m. to 6:59 a.m. to intercept the final approach course to all runways no closer than four miles; and Update the “Fly Quiet” Communication Program.

The FAA disapproved one measure: Encourage the FAA and airlines operating at CLE to use optimized profile descents (OPDs) between 11:00 p.m. and 6:00 a.m. for arrivals to Runway 6L, 6R, 24L, and 24R. No action was taken on one measure: Add a minimum turn altitude to initial departure clearances.

The Airport Sponsor requested one measure to be withdrawn: Construction of enclosed ground run-up facility. These determinations are set forth in detail in a Record of Approval signed by the Great Lakes Airports Division Manager on November 29, 2012. The Record of Approval, as well as other evaluation materials and the documents comprising the submittal, are available for review at the FAA office listed above and at the administrative offices of the Cleveland-Hopkins International Airport, Ms. Traci Clark, Deputy Chief Planning and Engineering, Cleveland-Hopkins International Airport, 5301 W. Hangar Road, Cleveland, Ohio 44135.

The Record of Approval will also be available on-line at: http://www.faa.gov/airports airtraffic/airports/environmental/airport noise/part 150/states/.

Issued in Romulus, Michigan, on December 12, 2012.
John L. Mayfield, Jr.,
Manager, Detroit.

[FR Doc. 2013-06266 Filed 3-18-13; 8:45 am]

BILLING CODE 4910-13-P